DEPARTMENT OF LABOR

Employment and Training Administration

[TA-W-56,990]

Joyner Manufacturing Louisburg, NC; Notice of Termination of Investigation

Pursuant to section 221 of the Trade Act of 1974, as amended, an investigation was initiated on April 18, 2005 in response to a petition filed by a company official on behalf of workers at Joyner Manufacturing, Louisburg, North Carolina.

The petitioning group of workers is covered by an active certification (TA-W-56,911) issued on April 15, 2005. The certification is applicable to all workers of Joyner Manufacturing, Louisburg, North Carolina, who became totally or partially separated from employment on or after March 30, 2004, through April 15, 2007.

Consequently, further investigation in this case would serve no purpose, and the investigation has been terminated.

Signed at Washington, DC, this 3rd day of May, 2005.
Linda Poole,
Certifying Officer, Division of Trade Adjustment Assistance.

[FR Doc. E5-2423 Filed 5-13-05; 8:45 am]

BILLING CODE 4510-30-P